DEPARTMENT OF ENERGY

Federal Energy Regulatory Commission

Combined Notice of Filings #1

Take notice that the Commission received the following exempt wholesale generator filings:

Docket Numbers: EG23-38-000.

Applicants: Rodeo Ranch Energy Storage, LLC.

Description: Rodeo Ranch Energy Storage, LLC submits Notice of Self-Certification of Exempt Wholesale Generator Status.

Filed Date: 12/21/22.

Accession Number: 20221221-5053.

Comment Date: 5 p.m. ET 1/11/23.

Docket Numbers: EG23-39-000.

Applicants: Hecate Energy Albany 2 LLC.

Description: Hecate Energy Albany 2 LLC submits Notice of Self-Certification of Exempt Wholesale Generator Status.

Filed Date: 12/21/22.

Accession Number: 20221221-5092.

Comment Date: 5 p.m. ET 1/11/23.

Docket Numbers: EG23-40-000.

Applicants: Hecate Energy Albany 1 LLC.

Description: Hecate Energy Albany 1 LLC submits Notice of Self-Certification of Exempt Wholesale Generator Status.

Filed Date: 12/21/22.

Accession Number: 20221221-5097.

Comment Date: 5 p.m. ET 1/11/23.

Docket Numbers: EG23-41-000.

Applicants: GRP TE Lessee, LLC.

Description: GRP TE Lessee, LLC submits Notice of Self-Certification of Exempt Wholesale Generator Status.

Filed Date: 12/21/22.

Accession Number: 20221221-5139.

Comment Date: 5 p.m. ET 1/11/23.

Docket Numbers: EG23-42-000.

Applicants: Kapolei Energy Storage I, LLC.

Description: Kapolei Energy Storage I, LLC submits Notice of Self-Certification of Exempt Wholesale Generator Status.

Filed Date: 12/21/22.

Accession Number: 20221221-5144.

Comment Date: 5 p.m. ET 1/11/23.

Take notice that the Commission received the following electric rate filings:

Docket Numbers: ER20-681-004.

Applicants: Tri-State Generation and Transmission Association, Inc.

Description: Refund Report: Market Based Rate Refund Report to be effective N/A.

Filed Date: 12/21/22.

Accession Number: 20221221-5148.

Comment Date: 5 p.m. ET 1/11/23.

Docket Numbers: ER20-1090-001.

Applicants: NorthWestern Corporation.

Description: NorthWestern Corporation submits additional Revisions to its Formula Rate Template for South Dakota.

Filed Date: 11/16/22.

Accession Number: 20221116-5055.

Comment Date: 5 p.m. ET 1/4/23.

Docket Numbers: ER20-2039-002.

Applicants: GridLiance High Plains LLC.

Description: Compliance filing: GHP ER20-2039 Order 864 Supplemental Compliance Filing to be effective 1/27/2020.

Filed Date: 12/21/22.

Accession Number: 20221221-5206.

Comment Date: 5 p.m. ET 1/11/23.

Docket Numbers: ER20-2043-001.

Applicants: GridLiance High Plains LLC.

Description: Compliance filing: GHP ER20-2043 Order 864 Supplemental Compliance Filing to be effective 1/27/2020.

Filed Date: 12/21/22.

Accession Number: 20221221-5209.

Comment Date: 5 p.m. ET 1/11/23.

Docket Numbers: ER20-2045-001.

Applicants: GridLiance High Plains LLC.

Description: Compliance filing: GHPs ER20-2045 Order No. 864 Supplemental Compliance Filing to be effective 1/27/2020.

Filed Date: 12/21/22.

Accession Number: 20221221-5219.

Comment Date: 5 p.m. ET 1/11/23.

Docket Numbers: ER22-2314-002.

Applicants: Langdon Renewables, LLC.

Description: Tariff Amendment: Amended and Restated Common Facilities Agreement (ER22-2314-) to be effective 9/7/2022.

Filed Date: 12/21/22.

Accession Number: 20221221-5086.

Comment Date: 5 p.m. ET 1/11/23.

Docket Numbers: ER23-188-001.

Applicants: Southwestern Electric Power Company.

Description: Tariff Amendment: SWEPCO-GSEC-LHEC Stephen Cruz Delivery Point Agreement—Amend Pending to be effective 10/7/2022.

Filed Date: 12/21/22.

Accession Number: 20221221-5202.

Comment Date: 5 p.m. ET 1/11/23.

Docket Numbers: ER23-321-001.

Applicants: Consolidated Edison Company of New York, Inc.

Description: Tariff Amendment: Amendment 12-21-2022 of BQDM filing#2 w Correct Code to be effective 11/1/2022.

Filed Date: 12/21/22.

Accession Number: 20221221-5082.

Comment Date: 5 p.m. ET 1/11/23.

Docket Numbers: ER23-334-002.

Applicants: Southwest Power Pool, Inc.

Description: Tariff Amendment: 1875R5 Kansas Electric Power Cooperative, Inc. NITSA and NOA to be effective 1/1/2023.

Filed Date: 12/21/22.

Accession Number: 20221221-5017.

Comment Date: 5 p.m. ET 1/11/23.

Docket Numbers: ER23-681-000.

Applicants: The Narragansett Electric Company, New England Power Company.

Description: Tariff Amendment: The Narragansett Electric Company submits tariff filing per 35.15: Notice of Cancellation FERC Tariff DB ID 138 SAs Under ISO-NE OATT Sched 21-NEP to be effective 12/31/9998.

Filed Date: 12/20/22.

Accession Number: 20221220-5239.

Comment Date: 5 p.m. ET 1/10/23.

Docket Numbers: ER23-682-000.

Applicants: ISO New England Inc.

Description: ISO New England submits Informational Filing of Contract with its External Market Monitor, Potomac Economics, Ltd., for the years 2023 through 2025.

Filed Date: 12/15/22.

Accession Number: 20221215-5232.

Comment Date: 5 p.m. ET 1/5/23.

Docket Numbers: ER23-683-000.

Applicants: PJM Interconnection, L.L.C.

Description: § 205(d) Rate Filing: Original Necessary Studies Agreement, SA No. 6742 Queue No. AF1-006 to be effective 11/21/2022.

Filed Date: 12/21/22.

Accession Number: 20221221-5074.

Comment Date: 5 p.m. ET 1/11/23.

Docket Numbers: ER23-684-000.

Applicants: Southern California Edison Company.

Description: Tariff Amendment: Termination of ARES Nevada UFA TOT728AFS/Q1064 (SA208) to be effective 2/20/2023.

Filed Date: 12/21/22.

Accession Number: 20221221-5078.

Comment Date: 5 p.m. ET 1/11/23.

Docket Numbers: ER23-685-000.

Applicants: Campo Verde Solar, LLC.

Description: Initial rate filing: Filing of Mandrapa Shared Facilities Agreement and Request for Waivers to be effective 12/22/2022.

Filed Date: 12/21/22.

Accession Number: 20221221-5106.

Comment Date: 5 p.m. ET 1/11/23.

Docket Numbers: ER23-686-000.

Applicants: BP Energy Holding Company LLC.

Description: § 205(d) Rate Filing: Notice of Succession to be effective 12/22/2022.

Filed Date: 12/21/22.

Accession Number: 20221221-5113.

Comment Date: 5 p.m. ET 1/11/23.

Docket Numbers: ER23-688-000.

Applicants: BP Energy Retail Company California LLC.

Description: § 205(d) Rate Filing: Notice of Succession and Category Status Filing to be effective 12/22/2022.

Filed Date: 12/21/22.

Accession Number: 20221221-5115.

Comment Date: 5 p.m. ET 1/11/23.

Docket Numbers: ER23-689-000.

Applicants: BP Energy Retail Company LLC.

Description: § 205(d) Rate Filing: Notice of Succession and Category Status Filing to be effective 12/22/2022.

Filed Date: 12/21/22.

Accession Number: 20221221-5116.

Comment Date: 5 p.m. ET 1/11/23.

Docket Numbers: ER23-690-000.

Applicants: ISO New England Inc.

Description: ISO New England Inc submits its informational filing for qualification in the Forward Capacity Market under 2026-2027 Capacity Commitment Period.

Filed Date: 12/21/22.

Accession Number: 20221221-5121.

Comment Date: 5 p.m. ET 1/11/23.

Docket Numbers: ER23-691-000.

Applicants: Hecate Energy Albany 1 LLC.

Description: Baseline eTariff Filing: Hecate Energy Albany 1 LLC MBR Tariff to be effective 2/4/2023.

Filed Date: 12/21/22.

Accession Number: 20221221-5125.

Comment Date: 5 p.m. ET 1/11/23.

Docket Numbers: ER23-692-000.

Applicants: Hecate Energy Albany 2 LLC.

Description: Baseline eTariff Filing: Hecate Energy Albany 2 LLC MBR Tariff to be effective 2/4/2023.

Filed Date: 12/21/22.

Accession Number: 20221221-5127.

Comment Date: 5 p.m. ET 1/11/23.

Docket Numbers: ER23-693-000.

Applicants: Tri-State Generation and Transmission Association, Inc.

Description: § 205(d) Rate Filing: Amendment to Service Agreement FERC No. 901 to be effective 11/22/2022.

Filed Date: 12/21/22.

Accession Number: 20221221-5142.

Comment Date: 5 p.m. ET 1/11/23.

Docket Numbers: ER23-694-000.

Applicants: PJM Interconnection, L.L.C.

Description: § 205(d) Rate Filing: Amendment to ISA, Service Agreement No. 3350; Queue No. X1-097 to be effective 6/19/2012.

Filed Date: 12/21/22.

Accession Number: 20221221-5151.

Comment Date: 5 p.m. ET 1/11/23.

Docket Numbers: ER23-695-000.

Applicants: PJM Interconnection, L.L.C.

Description: § 205(d) Rate Filing: Original ISA, Service Agreement No. 6727; Queue No. NQ176 to be effective 11/21/2022.

Filed Date: 12/21/22.

Accession Number: 20221221-5154.

Comment Date: 5 p.m. ET 1/11/23.

Docket Numbers: ER23-696-000.

Applicants: PJM Interconnection, L.L.C.

Description: § 205(d) Rate Filing: Original ISA, Service Agreement No. 6717; Queue No. NQ182 to be effective 11/21/2022.

Filed Date: 12/21/22.

Accession Number: 20221221-5159.

Comment Date: 5 p.m. ET 1/11/23.

Docket Numbers: ER23-697-000.

Applicants: PJM Interconnection, L.L.C.

Description: § 205(d) Rate Filing: Original ISA, Service Agreement No. 6721; Queue No. NQ184 to be effective 11/21/2022.

Filed Date: 12/21/22.

Accession Number: 20221221-5162.

Comment Date: 5 p.m. ET 1/11/23.

Docket Numbers: ER23-698-000.

Applicants: PJM Interconnection, L.L.C.

Description: § 205(d) Rate Filing: Original ISA, Service Agreement No. 6724; Queue No. NQ186 to be effective 11/21/2022.

Filed Date: 12/21/22.

Accession Number: 20221221-5192.

Comment Date: 5 p.m. ET 1/11/23.

Docket Numbers: ER23-699-000.

Applicants: Public Service Company of Colorado.

Description: § 205(d) Rate Filing: PSCO ADIT Table 66 Update to be effective 1/1/2021.

Filed Date: 12/21/22.

Accession Number: 20221221-5189.

Comment Date: 5 p.m. ET 1/11/23.

Docket Numbers: ER23-700-000.

Applicants: Tri-State Generation and Transmission Association, Inc.

Description: Tariff Amendment: Notice of Cancellation of Rate Schedule FERC No. 337 to be effective 9/27/2022.

Filed Date: 12/21/22.

Accession Number: 20221221-5186.

Comment Date: 5 p.m. ET 1/11/23.

Docket Numbers: ER23-701-000.

Applicants: Tri-State Generation and Transmission Association, Inc.

Description: § 205(d) Rate Filing: Amendment to Service Agreement FERC No. 822 to be effective 11/29/2022.

Filed Date: 12/21/22.

Accession Number: 20221221-5201.

Comment Date: 5 p.m. ET 1/11/23.

Docket Numbers: ER23-702-000.

Applicants: Tri-State Generation and Transmission Association, Inc.

Description: § 205(d) Rate Filing: Amendment to Rate Schedule FERC No. 45 to be effective 2/21/2023.

Filed Date: 12/21/22.

Accession Number: 20221221-5220.

Comment Date: 5 p.m. ET 1/11/23.

Docket Numbers: ER23-703-000.

Applicants: Oklahoma Gas and Electric Company.

Description: Compliance filing: Amendment to Order No. 864 Compliance Filing to be effective 1/27/2020.

Filed Date: 12/21/22.

Accession Number: 20221221-5238.

Comment Date: 5 p.m. ET 1/11/23.

Docket Numbers: ER23-704-000.

Applicants: PPL Electric Utilities Corporation.

Description: PPL Electric Utilities Corporation submits Notice of Termination of Agreements.

Filed Date: 12/21/22.

Accession Number: 20221221-5280.

Comment Date: 5 p.m. ET 1/11/23.

Take notice that the Commission received the following qualifying facility filings:

Docket Numbers: QF23-311-000.

Applicants: Bloom Energy Corporation.

Description: Form 556 of Bloom Energy Corporation [Kaiser San Marcos].

Filed Date: 12/14/22.

Accession Number: 20221214-5250.

Comment Date: 5 p.m. ET 1/4/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2022.
Kimberly D. Bose,
Secretary.

[FR Doc. 2022-28255 Filed 12-27-22; 8:45 am]

BILLING CODE 6717-01-P